GOVERNMENT PRINTING OFFICE

Depository Library Council to the Public Printer; Meeting

The Depository Library Council to the Public Printer (DLC) will meet from Sunday, October 17, 2004, through Wednesday, October 20, 2004, in Washington, DC. The sessions will take place from 1 p.m. to 5 p.m. on Sunday, October 17; from 8:30 a.m. to 5 p.m. on Monday and Tuesday, October 18 and 19; and from 8 a.m. to 12 noon on Wednesday, October 20. The meeting will be held at the Hyatt Regency Washington on Capitol Hill, 400 New Jersey Avenue, NW., Washington, DC. The purpose of this meeting is to discuss the Federal Depository Library Program. All sessions are open to the public. The meetings will take place concurrently with the Federal Depository Library Conference. There is no charge for the conference; however, all participants should register for the Council Meeting at: http://www.access.gpo.gov/su_docs/fdlp/tools/04conreg.html.

A limited number of sleeping rooms are available at the Hyatt Regency Washington on Capitol Hill. Single rooms are available at the Government rate of $145 (plus tax) per night. Double rooms are also available for $170 (plus tax) per night. These rates will be honored only through September 16, 2004. The District of Columbia's room tax is 14.5%. Reservations are accepted online at: http://washingtonregency.hyatt.com/groupbooking/uspo. Reservations can also be made by calling (800) 235-1234 or contacting the hotel at (202) 737-1234. To receive these rates you must mention that you are attending GPO's Federal Depository Library Conference and Council Meeting. The hotel offers daily, overnight and valet parking. The maximum daily parking rate is $30 per day. The Hyatt Regency Washington on Capitol Hill is in compliance with the requirements of Title III of the Americans With Disabilities Act and meets all Fire Safety Act regulations.

James C. Bradley,
Acting Public Printer.

[FR Doc. 04-20400 Filed 9-8-04; 8:45 am]

BILLING CODE 1520-01-P